DEPARTMENT OF DEFENSE

Department of the Navy

Notice of Intent To Prepare an Environmental Impact Statement for the Proposed Modernization and Expansion of Townsend Bombing Range in McIntosh County, GA

AGENCY: Department of the Navy, DoD.

ACTION: Notice.

SUMMARY: Pursuant to Section (102)(2)(c) of the National Environmental Policy Act (NEPA) of 1969, and regulations implemented by the Council on Environmental Quality (40 Code of Federal Regulations [CFR] Parts 1500-1508), Department of the Navy (DoN) NEPA regulations (32 CFR Part 775), and United States Marine Corps (USMC) NEPA directives (Marine Corps Order P5090.2A, changes 1 and 2), the DoN intends to prepare an Environmental Impact Statement (EIS) and conduct public scoping meetings for the modernization and expansion of the Townsend Bombing Range (TBR) located in McIntosh County, Georgia to accommodate the use of inert (with spotting charges) Precision Guided Munitions (PGMs) with their associated larger land requirements. To accomplish this, the USMC proposes to acquire lands in the vicinity of TBR on which to create new target areas to allow for a greater variety of training activities. The TBR is owned by the DoN, and is operated by the Georgia Air National Guard (GA ANG). The DoN will prepare the EIS.

DATES AND ADDRESSES: The DoN is initiating a 30-day public scoping process to identify community interests and local issues to be addressed in the EIS, which starts with the publication of this Notice of Intent. Two public scoping meetings, using an informal open house format, will be held from 4 p.m. to 7 p.m. on the following dates and at the following locations in Georgia:

(1) Tuesday, August 24, 2010, City of Ludowici Meeting Room, City Hall, 469 North Macon Street, Ludowici, GA 31316.

(2) Thursday, August 26, 2010, Haynes Auditorium—Ida Hilton Public Library, 1105 Northway, Darien, GA 31305.

The public is invited to attend these meetings to view project-related displays, speak with USMC representatives, and submit public comment forms. All comments regarding the scope of issues that the USMC should consider during EIS preparation must be received prior to September 7, 2010. Additional information concerning the meetings and the proposed alternatives are available on the EIS website at http://www.townsendbombingrangeeis.com and will be announced in local and regional newspapers. Please submit requests for special assistance, sign language interpretation for the hearing impaired, oral comments, or other auxiliary aids needed at the scoping meeting to the EIS Project Manager by August 16, 2010.

Submitting Comments: Federal, state, local agencies and interested parties are encouraged to provide oral and/or written comments regarding the scope of the EIS, reasonable alternatives and/or specific issues or topics of interest to the public. There are four ways by which comments can be submitted: (1) Attending one of the public scoping open-houses; (2) submitting through the project's public website at http://www.townsendbombingrangeeis.com; (3) E-mail to townsendbombingrangeeis@ene.com; (4) submitting written mailed comments on the scope of the EIS. All written comments should be submitted and/or postmarked no later than September 7, 2010. Comments submitted by mail should be sent to: Townsend EIS, Project Manager, Post Office Box 180458, Tallahassee, FL 32318.

The USMC will consider all comments received during the scoping period. A mailing list has been assembled to facilitate preparation of the EIS. Those on this list will receive notices and documents related to EIS preparation. This list includes local, state, and federal agencies with jurisdiction or other interests in the alternatives. In addition, the mailing list includes adjacent property owners, affected municipalities, and other interested parties such as conservation organizations. Anyone wishing to be added to the mailing list may request to be added by contacting the EIS project manager at the address provided below.

FOR FURTHER INFORMATION CONTACT: Community Planning and Liaison Office; Attn: Ms. Alice Howard, Post Office Box 9103, Building 601, Marine Corps Air Station Beaufort, Beaufort, South Carolina 29904-5001; phone: 843-228-7558; e-mail: townsendbombingrangeeis@ene.com.

SUPPLEMENTARY INFORMATION: The purpose of the Proposed Action is to provide a modern air-to-ground training range which can accommodate inert (with spotting charges) PGMs for aviation units stationed at MCAS Beaufort through the modernization and expansion of TBR in order to meet current training requirements.

The need for the Proposed Action is to more efficiently meet current training requirements for USMC aviation assets by significantly increasing air-to-ground training capabilities in the Beaufort, South Carolina region. Presently, squadrons from Marine Corps Air Station (MCAS) Beaufort must use West Coast training ranges to satisfy PGM training requirements. Having a range available for this training would result in greater training efficiency. To accomplish the proposed action, the USMC would acquire land adjacent to the existing 5,183-acre TBR and would expand the area of controlled access around the bombing targets. The EIS will consider several land acquisition scenarios and configurations of the range to meet the training requirements.

Preliminary Alternatives: At this time, it is anticipated that the EIS will evaluate five action alternatives and the No Action Alternative. Land acquisition scenarios were developed through the use of modeling software to determine the land area necessary to accommodate the use of inert (with spotting charges) PGMs at TBR in a manner that will accomplish the training requirements while maintaining public safety. The EIS will also consider other feasible land acquisition scenarios that may be identified during scoping or during the preparation of the EIS. The five action alternatives currently identified for analysis in the EIS are as follows:

Alternative 1 proposes the acquisition of approximately 11,948 acres to the northwest and southeast of the TBR boundary along the south side of State Highway 57.

Alternative 2 proposes a combination of the property acquisition under Alternative 1 with an additional 24,880 acres located northeast of TBR and to the north of State Highway 57, totaling approximately 36,828 acres.

Alternative 3 proposes the acquisition of approximately 24,880 acres located northeast of TBR and to the North of State Highway 57.

Alternative 4 proposes a combination of the property acquisition under Alternative 1 with an additional 14,752 acres between TBR and the Altamaha River, totaling approximately 26,700 acres.

Alternative 5 proposes a combination of the property acquisition under Alternative 3 and Alternative 4 totaling approximately 51,580 acres.

The No Action Alternative proposes no land acquisition and no changes to operations at TBR. Aviation units stationed at MCAS Beaufort would continue to deploy to the western United States to undergo inert (with spotting charges) PGM training and meet individual aircrew training requirements.

Environmental Issues and Resources To Be Examined: The EIS will evaluate potential environmental effects associated with each of the alternatives. Issues to be addressed may include, but are not limited to: Safety; land use; recreation; air quality; socioeconomics and environmental justice; water resources; noise; cultural resources; biological resources; forestry resources; and airspace/air traffic. Relevant and reasonable measures that could avoid or mitigate environmental effects also will be analyzed. Additionally, the USMC will undertake any consultations required by the Endangered Species Act, Clean Water Act, National Historic Preservation Act, and any other applicable laws or regulations.

EIS Schedule: This Notice of Intent (NOI) is the first phase of the EIS process and announces the 30-day public comment period and public scoping meetings to identify community concerns and local issues that should be addressed in the EIS. The next phase occurs when a Notice of Availability (NOA) is published in the Federal Register and local media to publicly announce the release of the Draft EIS. A 45-day public comment period for the Draft EIS will commence upon publication of the NOA in the Federal Register. The USMC will consider and respond to all comments received on the Draft EIS when preparing the Final EIS. The USMC intends to issue the Final EIS no later than Spring 2012, at which time a NOA will be published in the Federal Register and local media. A Record of Decision is anticipated in Fall 2012.

Dated: July 29, 2010.
D.J. Werner,
Lieutenant Commander, Judge Advocate Generals Corps, U.S. Navy, Federal Register Liaison Officer.

[FR Doc. 2010-19421 Filed 8-5-10; 8:45 am]

BILLING CODE 3810-FF-P